DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: 2008-2010 National Survey on Drug Use and Health: Methodological Field Tests—NEW

The National Survey on Drug Use and Health (NSDUH), formerly the National Household Survey on Drug Abuse (NHSDA), is a survey of the civilian, non-institutionalized population of the United States 12 years old and older. The data are used to determine the prevalence of use of tobacco products, alcohol, illicit substances, and illicit use of prescription drugs. The results are used by SAMHSA, ONDCP, Federal government agencies, and other organizations and researchers to establish policy, direct program activities, and better allocate resources.

This will be a request for generic approval for information collection for NSDUH methodological field tests designed to examine the feasibility, quality, and efficiency of new procedures of revisions to the existing survey protocol. These field tests will examine ways to increase data quality, lower operating costs, and gain a better understanding of various sources of nonsampling error. If these tests provide successful results, current procedures may be revised and incorporated into the main study (e.g., questionnaire changes). Particular attention will be given to minimizing the impact of design changes so that survey data continue to remain comparable over time.

Field test activities are expected to include improving response rates among persons residing in controlled access communities (locked apartment buildings, gated communities, college dormitories, etc.), and conducting a nonresponse follow-up study. Cognitive laboratory testing will be conducted prior to the implementation of significant questionnaire modifications. These questionnaire modifications will also be pre-tested and the feasibility of text-to-speech software determined. To understand the effectiveness of current monetary incentive, a new incentive study will be conducted with varying incentive amounts. The relationship between incentives and veracity of reporting will also be examined. Tests will also be designed to determine the feasibility of alternative sample designs and modes of data collection. Lastly, a customer satisfaction survey of NSDUH data users will be conducted to improve the utility of the NSDUH data. Some of the above studies may be combined to introduce survey efficiencies.

The average annual burden associated with these activities over a three-year period is summarized below:

Estimated Burden for NSDUH Methodological Field Tests
Activity | Number of respondents | Responses per respondent | Average burden per response | Total burden (hrs.)
a. Improving participation among controlled access and other hard-to-reach populations | 417 | 1 | 1.0 hr. | 417
b. Nonresponse follow-up | 2000 | 1 | 1.0 hr. | 2000
c. Incentive/validity study | 2000 | 1 | 1.0 hr. | 2000
d. NSDUH questionnaire validity studies | 2500 | 1 | 1.0 hr. | 2500
e. Cognitive laboratory testing | 90 | 1 | 1.0 hr. | 90
f. Annual questionnaire pre-test | 670 | 1 | 1.0 hr. | 670
g. Field testing alternative questions, data collection protocol, contact materials | 1000 | 1 | 1.0 hr. | 1000
h. Text-to-speech software for voices in computer-assisted interviewing | 100 | 1 | 1.0 hr. | 100
i. Testing alternative sample designs (including alternative sampling frames) | 5000 | 1 | 1.5 hr. | 7500
j. Alternative modes of data collection (e.g., T-ACASI for Nonresponse follow-up) | 100 | 1 | 1.0 hr. | 100
k. Customer satisfaction survey of NSDUH data users | 100 | 1 | .25 hr. | 25
Household screening for a-d, f-g, i-j | 12,471 | 1 | 0.083 hr. | 1,769
Screening Verification for a-d, f-g, i-j | 997 | 1 | 0.067 hr. | 43
Interview Verification for a-d, f-g, i-j | 1,497 | 1 | 0.067 hr. | 78
Total | 28,942 | - | - | 18,292
Annual Average (Total divided by 3 years) | 9,647 | - | - | 6,097

Written comments and recommendations concerning the proposed information collection should be sent by December 5, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: October 23, 2007.
Elaine Parry,
Acting Director, Office of Program Services.

[FR Doc. E7-21295 Filed 11-2-07; 8:45 am]

BILLING CODE 4162-20-P